EQUAL EMPLOYMENT OPPORTUNITY COMMISSION

Agency Information Collection Activities: Notice of Submission for OMB Review; Comment Request

AGENCY: Equal Employment Opportunity Commission.

ACTION: Notice of Information Collection—Uniform Guidelines on Employee Selection Procedures—Extension Without Change.

SUMMARY: In accordance with the Paperwork Reduction Act of 1995, the Equal Employment Opportunity Commission gives notice of its intent to submit to the Office of Management and Budget (OMB) a request for renewal of the information collection described below.

DATES: Written comments on this notice must be submitted on or before October 3, 2011.

ADDRESSES: You may submit comments by any of the following methods:

• By mail to Stephen Llewellyn, Executive Officer, Executive Secretariat, Equal Employment Opportunity Commission, 131 M Street, NE., Washington, DC 20507.

• By facsimile (“FAX”) machine to (202) 663-4114. (There is no toll free FAX number.) Only comments of six or fewer pages will be accepted via FAX transmittal, in order to assure access to the equipment. Receipt of FAX transmittals will not be acknowledged, except that the sender may request confirmation of receipt by calling the Executive Secretariat staff at (202) 663-4070 (voice) or (202) 663-4074 (TTD). (These are not toll free numbers).

• By the Federal eRulemaking Portal: http://www.regulations.gov. After accessing this Web site, follow its instructions for submitting comments.

Comments need be submitted in only one of the above-listed formats, not all three. All comments received will be posted without change to http://www.regulations.gov, including any personal information you provide. Copies of the received comments also will be available for inspection in the EEOC Library, FOIA Reading Room, by advance appointment only, from 9 a.m. to 5 p.m., Monday through Friday, except legal holidays, from October 3, 2011. Persons who schedule an appointment in the EEOC Library, FOIA Reading Room, and need assistance to view the comments will be provided with appropriate aids upon request, such as readers or print magnifiers. To schedule an appointment to inspect the comments at the EEOC Library, FOIA Reading Room, contact the EEOC Library by calling (202) 663-4630 (voice) or (202) 663-4641 (TTY). (These are not toll free numbers).

FOR FURTHER INFORMATION CONTACT: Kathleen Oram, Senior Attorney, at (202) 663-4681 (voice), or Thomas J. Schlageter, Assistant Legal Counsel, (202) 663-4668 (voice) or (202) 663-7026 (TDD).

SUPPLEMENTARY INFORMATION:

Introduction

The Equal Employment Opportunity Commission (EEOC or Commission) gives notice of its intent to submit the recordkeeping requirements contained in the Uniform Guidelines on Employee Selection Procedures (UGESP or Uniform Guidelines) ¹ to the Office of Management and Budget (OMB) for a three-year extension without change under the Paperwork Reduction Act of 1995 (PRA).

¹ 29 CFR part 1607, 41 CFR part 60-3, 28 CFR part 50, 5 CFR part 300.

Request for Comments

Pursuant to the Paperwork Reduction Act of 1995, 44 U.S.C. Chapter 35, and OMB regulation 5 CFR 1320.8(d)(1), the EEOC invites public comments that will enable the agency to:

(1) Evaluate whether the collection of information is necessary for the proper performance of the functions of the agency, including whether the information will have practical utility;

(2) Evaluate the accuracy of the agency's estimate of the burden of the collectEion of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of Collection

Collection Title: Recordkeeping Requirements of the Uniform Guidelines on Employee Selection Procedures, 29 CFR part 1607, 41 CFR part 60-3, 28 CFR part 50, 5 CFR part 300.

OMB Number: 3046-0017.

Type of Respondent: Businesses or other institutions; Federal Government; State or local governments and farms.

North American Industry Classification System (NAICS) Code: Multiple.

Standard Industrial Classification Code (SIC): Multiple.

Description of Affected Public: Any employer, Government contractor, labor organization, or employment agency covered by the Federal equal employment opportunity laws.

Respondents: 899,580.

Responses: 899,580.

Recordkeeping Hours: 10,783,687 per year.

Number of Forms: None.

Form Number: None.

Frequency of Report: None.

Abstract: The Uniform Guidelines provide fundamental guidance for all Title VII-covered employers about the use of employment selection procedures. The records addressed by UGESP are used by respondents to assure that they are complying with Title VII and Executive Order 11246; by the Federal agencies that enforce Title VII and Executive Order 11246 to investigate, conciliate, and litigate charges of employment discrimination; and by complainants to establish violations of Federal equal employment opportunity laws. While there is no data available to quantify these benefits, the collection of accurate applicant flow data enhances each employer's ability to address any deficiencies in recruitment and selection processes, including detecting barriers to equal employment opportunity.

Burden Statement: There are no reporting requirements associated with UGESP. The burden being estimated is the cost of collecting and storing a job applicant's gender, race, and ethnicity data. The only paperwork burden derives from this recordkeeping.

Only employers covered under Title VII and Executive Order 11246 are subject to UGESP. For the purpose of burden calculation, employers with 15 or more employees are counted. The number of such employers is estimated at 899,580, which combines estimates from private employment,² the public sector,³ colleges and universities,⁴ and referral unions.⁵

² “Employer Firms, Establishments, Employment, Annual Payroll and Receipts for Small Firm Size Classes, 2007 (http://www.sba.gov/advo/research/data.html#us).

³ “Government Employment & Payroll” (statistics on number of federal, state, and local government civilian employees and their gross payrolls for March 2008); “2008 State & Local Government” (data for 50 state governments and all local governments); Individual Government Data File (http://www.census.gov/govs/apes/indes.html-2010). The number of government entities was adjusted to only include those with 15 or more employees.

⁴ Postsecondary Institutions in the United States: Fall 2007; Degrees and Other Awards Conferred: 2006-07; and 12-Month Enrollment: 2006-07, (http://nces.ed.gov/pubsearch/pubsinfo.spp?pubid=2008159rev).

⁵ EEO-3 Reports filed by referral unions in 2008 with EEOC.

This burden assessment is based on an estimate of the number of job applications submitted to all Title VII-covered employers in one year, including paper-based and electronic applications. The total number of job applications submitted every year to covered employers is estimated to be 1,294,042,500, which is based on a National Organizations Survey ⁶ average of approximately 35 applications for every hire and a Bureau of Labor Statistics data estimate of 36,731,900 annual hires.⁷ It includes 161,300 applicants for union membership reported on the EEO-3 form for 2008.

⁶ The National Organizations Survey is a survey of business organizations across the United States in which the unit of analysis is the actual workplace, (http://www.icpsr.umich.edu/icpsrweb/ICPSR/studies/04074).

⁷ Bureau of Labor Statistics Job Openings and Labor Turnover Survey—2010—(http://www.bls.gov/jlt/data.htm) adjusted to only include hires by firms with 15 or more employees.

The employer burden associated with collecting and storing applicant demographic data is based on the following assumptions: Applicants would need to be asked to provide three pieces of information—sex, race/ethnicity, and an identification number (a total of approximately 13 keystrokes); the employer would need to transfer information received to a database either manually or electronically; and the employer would need to store the 13 characters of information for each applicant. Recordkeeping costs and burden are assumed to be the cost of entering 13 keystrokes.

Assuming that the required recordkeeping takes 30 seconds per record, and assuming a total of 1,294,042,500 paper and electronic applications per year (as calculated above), the resulting UGESP burden hours would be 10,783,687. Based on a wage rate of $13.65 per hour for the individuals entering the data, the collection and storage of applicant demographic data would come to approximately $147,197,332 per year for Title VII-covered employers. We expect that the foregoing assumptions are over-inclusive, because many employers have electronic job application processes that should be able to capture applicant flow data automatically.

While the burden hours and costs for the UGESP recordkeeping requirement seem very large, the average burden per employer is quite small. We estimate that UGESP applies to 899,580 employers, approximately 822,000 of which are small firms (entities with 15-500 employees) according to data provided by the Small Business Administration Office of Advocacy.⁸ If we assume that a firm with 250 employees (in the mid-range of the 822,000 small employers) has 20 job openings per year and receives an average of 35 applications per job opening, the burden hours to collect and store applicants' sex and race/ethnicity data would be 5.8 hours per year, and the costs would be $79.11 per year. Similarly, if we assume that an employer with 1,500 employees has 125 job openings to fill each year, and receives 35 applications per opening, the burden hours would be 36.5 hours per year and the annual costs would be $498.23.

⁸ See Firm Size Data at http://sba.gov/advo/research/data.html#us.

Dated: July 28, 2011.
Jacqueline A. Berrien,
Chair, Equal Employment Opportunity Commission.

[FR Doc. 2011-19642 Filed 8-2-11; 8:45 am]

BILLING CODE 6570-01-P